LEGAL SERVICES CORPORATION

Notice of Public Hearing—Fiscal Oversight Task Force Report & Recommendations

AGENCY: Legal Services Corporation.

ACTION: Notice of Public Hearing.

SUMMARY: The Legal Services Corporation (LSC) will hold a telephonic public hearing to take comments on (1) the July 28, 2011 Report of the LSC Fiscal Oversight Task Force, which reviewed and made recommendations regarding LSC's fiscal oversight operations; (2) written comments previously submitted during the public comment period; and (3) reactions to those comments submitted by Task Force members.

DATES: Monday, December 12, 2011, from 12 noon to 2 p.m., Eastern Standard Time.

Location: The Legal Services Corporation, 3333 K Street NW., F. William McCalpin Conference Center (3rd Floor), Washington, DC 20007. Members of the public may participate in the teleconference by dialing, toll-free, 1-(866)-451-4981 and entering this passcode when prompted: 4382572489#. Once connected to the teleconference, members of the public are encouraged to place their phones on “Mute” by pressing *6 and are asked to avoid placing the call on “Hold” to minimize background noise and interference during the call.

FOR FURTHER INFORMATION CONTACT: Rebecca D. Weir, Assistant General Counsel, Legal Services Corporation, 3333 K Street NW., 4th Floor, Washington, DC 20007; (202) 295-1618 (phone); (202) 337-6519 (fax); rweir@lsc.gov.

SUPPLEMENTARY INFORMATION: LSC was established by the United States Congress “for the purpose of providing financial support for legal assistance in noncriminal matters or proceedings to persons financially unable to afford such assistance.” 42 U.S.C. § 2996b(a). LSC performs this function by awarding grants to legal aid programs that provide civil legal services to low-income Americans.

By Resolution adopted on July 21, 2010, the LSC Board of Directors established the Fiscal Oversight Task Force (“FOTF”), comprised of seventeen distinguished grant-making, business, legal services, and accounting professionals, “to undertake a review of and make recommendations to the Board regarding LSC's fiscal oversight * * * of its grantees.” On August 1, 2011, the FOTF presented the Board with a report of its findings and recommendations, Fiscal Oversight Task Force Report to the Board of Directors, July 28, 2011 (“FOTF Report”). The Board subsequently directed LSC Management to publish the FOTF Report in the Federal Register for a 30-day public comment period. Nine written comments were received. The Board reviewed those comments at its October 18, 2011 meeting.

On December 12, 2011, the Corporation will hold a telephonic public hearing on the FOTF Report, the public comments previously submitted, and reactions to those comments from several Task Force members. The public comments and a summary of Task Force members' reactions may be viewed online at http://www.lsc.gov/about/matters-comment. The purpose of the hearing is to solicit any additional comments and suggestions from members of the public. The hearing will be conducted by LSC Board Members and FOTF Co-Chairs Robert Grey and Victor Maddox.

Dated: November 30, 2011.
Victor M. Fortuno,
Vice President & General Counsel.

[FR Doc. 2011-31186 Filed 12-5-11; 8:45 am]

BILLING CODE 7050-01-P